DEPARTMENT OF THE INTERIOR

National Park Service

[NPS-WASO-NAGPRA-NPS0032040; PPWOCRADN0-PCU00RP14.R50000]

Notice of Intent To Repatriate Cultural Items: McClure Archives and University Museum, University of Central Missouri, Warrensburg, MO

AGENCY: National Park Service, Interior.

ACTION: Notice.

SUMMARY: The McClure Archives and University Museum, University of Central Missouri, in consultation with the appropriate Indian Tribes or Native Hawaiian organizations, has determined that the cultural item listed in this notice meet the definition of an object of cultural patrimony. Lineal descendants or representatives of any Indian Tribe or Native Hawaiian organization not identified in this notice that wish to claim this cultural item should submit a written request to the McClure Archives and University Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the McClure Archives and University Museum at the address in this notice by July 8, 2021.

FOR FURTHER INFORMATION CONTACT: Ashley McGuffey, NAGPRA Preparator, McClure Archives and University Museum of JCKL 1470, 601 Missouri Street, Warrensburg, MO 64093, telephone (660) 543-4649, email mcguffey@ucmo.edu.

SUPPLEMENTARY INFORMATION: Notice is here given in accordance with the Native American Graves Protection and Repatriation Act (NAGPRA), 25 U.S.C. 3005, of the intent to repatriate a cultural item under the control of the McClure Archives and University Museum, University of Central Missouri, Warrensburg, MO, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In the 1920s, one cultural item was removed from an unknown location most likely on the southeastern coast of Alaska. In the 1920s, anthropologist Erna Gunther collected or bought a wooden food box from the Tsimshian people. After her death in 1982, Gunther's son, anthropologist Robert Spier, inherited the box. Spier reported that his mother did not tell him much about the box, as it caused tension between his parents and ultimately played a part in their divorce. Robert Spier died in 2014. In 2017, his widow, Carolyn Spier, donated the box to the McClure Archives and University Museum, along with many other items in her husband's personal anthropological collection. The one object of cultural patrimony is this wooden food box.

Following analysis by McClure Archive and University Museum staff, a determination was made that this wooden food box is Tsimshian, and is connected to the Metlakatla Indian Community, Annette Island Reserve, in Alaska.

Determinations Made by the McClure Archives and University Museum, University of Central Missouri

Officials of the McClure Archives and University Museum, University of Central Missouri have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Metlakatla Indian Community, Annette Island Reserve.

Additional Requestors and Disposition

Lineal descendants or representatives of any Indian Tribe or Native Hawaiian organization not identified in this notice that wish to claim this cultural item should submit a written request with information in support of the claim to Ashley McGuffey, NAGPRA Preparator, McClure Archives and University Museum of JCKL 1470, 601 Missouri Street, Warrensburg, MO 64093, telephone (660) 543-4649, email mcguffey@ucmo.edu, by July 8, 2021. After that date, if no additional claimants have come forward, transfer of control of the object of cultural patrimony to the Metlakatla Indian Community, Annette Island Reserve may proceed.

The McClure Archives and University Museum, University of Central Missouri is responsible for notifying the Metlakatla Indian Community, Annette Island Reserve that this notice has been published.

Dated: May 25, 2021.
Melanie O'Brien,
Manager, National NAGPRA Program.

[FR Doc. 2021-11948 Filed 6-7-21; 8:45 am]

BILLING CODE 4312-52-P